DEPARTMENT OF TRANSPORTATION

Federal Highway Administration

Cancellation of Environmental Impact Statement: Clackamas County, OR

AGENCIES: Federal Highway Administration, Oregon Department of Transportation, and Clackamas County, Oregon.

ACTION: Cancellation of notice of intent for Harmony Road EIS.

SUMMARY: The FHWA is issuing this notice of cancellation to advise the public that we are no longer lead Federal Agency for preparation of an Environmental Impact Statement (EIS) for the proposed Harmony Road project in Clackamas County, Oregon. This is formal cancellation of the notice of intent that was published in the Federal Register, Volume 72, Number 67, on Monday, April 9, 2007. The project is now cancelled; therefore, no further project activities will occur.

FOR FURTHER INFORMATION CONTACT: Michelle Eraut, Environmental Program Manager, Federal Highway Administration, 530 Center Street, NE., Suite 100, Salem, Oregon 97301, Telephone: (503) 587-4716.

SUPPLEMENTARY INFORMATION: The notice of intent to prepare an EIS was for proposed improvements to the transportation system in the SE Harmony Road corridor, from SE 82nd Avenue to State Highway 224 (approximately 1.5 miles). The notice of intent to prepare an EIS is rescinded.

Authority: 23 U.S.C. 315.

Issued on: March 26, 2010.
Michelle Eraut,
Environmental Program Manager, Salem, Oregon.

[FR Doc. 2010-7589 Filed 4-2-10; 8:45 am]

BILLING CODE 4910-22-P